DEPARTMENT OF COMMERCE

International Trade Administration

[A-580-816]

Corrosion-Resistant Carbon Steel Flat Products From the Republic of Korea: Extension of Time Limits for the Final Results of Antidumping Duty Administrative Review

AGENCY: Import Administration, International Trade Administration, Department of Commerce.

FOR FURTHER INFORMATION CONTACT: Cindy Robinson at (202) 482-3797, AD/CVD Operations, Office 3, Import Administration, International Trade Administration, U.S. Department of Commerce, 14th Street and Constitution Ave, NW, Washington, DC 20230.

SUPPLEMENTARY INFORMATION:

Background

On September 25, 2007, the U.S. Department of Commerce (“Department”) published a notice of initiation of the administrative review of the antidumping duty order on corrosion-resistant carbon steel flat products from Korea, covering the period August 1, 2006, to July 31, 2007. See Initiation of Antidumping and Countervailing Duty Administrative Reviews and Requests for Revocation in Part, 72 FR 54428 (September 25, 2007). On September 9, 2008, the Department published the preliminary results of this review. See Certain Corrosion-Resistant Carbon Steel Flat Products From the Republic of Korea: Notice of Preliminary Results of the Antidumping Duty Administrative Review, 73 FR 52267 (September 9, 2008). The final results of this review are currently due no later than January 7, 2009.

Extension of Time Limit of Preliminary Results

Section 751(a)(3)(A) of the Tariff Act of 1930, as amended (AAct@), requires the Department to issue the final results of a review within 120 days after the date on which the preliminary results are published. However, if it is not practicable to complete the review within that time period, section 751(a)(3)(A) of the Act allows the Department to extend the time limit for the final results to a maximum of 180 days. See also 19 CFR 351.213(h)(2).

We determine that it is not practicable to complete the final results of this review within the original time limit because several technical issues have arisen. These issues include: (1) Whether to add a separate field to differentiate laminated products from painted products based on the physical, cost, and price differences of the two, and therefore to modify the Department's model-match methodology; (2) whether to recalculate the general and administrative and financial ratios; and (3) whether to exclude gains and losses on currency forward contracts. These issues require additional analyses of certain information. Therefore, the Department is fully extending the final results. The final results are now due not later than March 8, 2009. As this day falls on a Sunday, the final results are due March 9, 2009. See Notice of Clarification: Application of “Next Business Day” Rule for Administrative Determination Deadlines Pursuant of the Tariff Act of 1930, As Amended, 70 FR 24533 (May 10, 2005).

This extension is in accordance with section 751(a)(3)(A) of the Act and 19 CFR 351.213(h)(2).

Dated: November 4, 2008.
Stephen J. Claeys,
Deputy Assistant Secretary for Import Administration.

[FR Doc. E8-26837 Filed 11-10-08; 8:45 am]

Billing Code: 3510-DS-S